CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its Senior Corps Grant Application (424-NSSC)—reference OMB Control Number 3045-0035, with an expiration date of May 31, 2014. The Corporation proposes to renew the Senior Corps Grant Application with the following modifications:

• To modify Grant Application Instructions to align with upcoming standard performance measure requirements.

• To separate the currently combined Grant Application Instructions by program, with a set of instructions specifically for the RSVP program and a set of instructions for the Foster Grandparent and Senior Companion programs.

• To incorporate technical corrections and enhancements, including simplifying language, establishing page limits, requiring extended zip code (zip plus four), and others.

Copies of the information collection request can be obtained by contacting the office listed in the addresses section of this Notice.

DATES: Written comments must be submitted to the individual and office listed in the ADDRESSES section by May 21, 2012.

ADDRESSES: You may submit comments, identified by the title of the information collection activity, by any of the following methods:

(1) By mail sent to: Corporation for National and Community Service, Senior Corps, Attention: Ms. Angela Roberts, Associate Director, 9401; 1201 New York Avenue NW., Washington, DC 20525.

(2) By hand delivery or by courier to the Corporation's mailroom at Room 8100 at the mail address given in paragraph (1) above, between 9 a.m. and 4 p.m. Monday through Friday, except Federal holidays.

(3) By fax to: (202) 606-3475, Attention: Ms. Angela Roberts, Associate Director.

(4) Electronically through www.regulations.gov. Individuals who use a telecommunications device for the deaf (TTY-TDD) may call (202) 606-3472 between 8:30 a.m. and 5 p.m. Eastern Time, Monday through Friday.

FOR FURTHER INFORMATION CONTACT: Angela Roberts by email at aroberts@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Senior Corps Grant Application is completed by applicant organizations interested in sponsoring a Senior Corps program. The application is also used by existing grantees to apply for continuation year grants (annual submissions in years two and three of a three year grant). The application is completed electronically using the Corporation's web-based grants management system, eGrants.

Current Action

The Corporation seeks to renew the current application with modifications. The modifications are: to modify Grant Application Instructions to align with upcoming standard performance measure requirements; separate the currently combined Grant Application Instructions by program, with a set of instructions specifically for the RSVP program and a set of instructions for the Foster Grandparent and Senior Companion programs; and incorporate technical corrections and enhancements, including simplifying language, establishing page limits, requiring extended zip code (zip plus four), and others.

The information collection will otherwise be used in the same manner as the existing application.

Type of Review: Renewal.

Agency: Corporation for National and Community Service.

Title: National Senior Service Corps Grant Application.

OMB Number: 3045-0035.

Agency Number: SF 424-NSSC.

Affected Public: Current and prospective sponsors of National Senior Service Corps Grants.

Total Respondents: 1,250.

Frequency: Annually, with exceptions.

Average Time Per Response: Estimated at 16.5 hours each for 180 first-time respondents; 15 hours each for 900 continuation sponsors; 5 hours each for 270 revisions.

Estimated Total Burden Hours: 17,820 hours.

Total Burden Cost (capital/startup): None.

Total Burden Cost (operating/maintenance): $6,497.

Comments submitted in response to this notice will be summarized and/or included in the request for Office of Management and Budget approval of the information collection request; they will also become a matter of public record.

Dated: March 15, 2012.
Angela Roberts,
Associate Director, Senior Corps.

[FR Doc. 2012-6687 Filed 3-19-12; 8:45 am]

BILLING CODE 6050-$$-P